DEPARTMENT OF VETERANS AFFAIRS

38 CFR Part 1

RIN 2900-AL40

Eligibility for an Appropriate Government Marker for a Grave Already Marked at Private Expense

AGENCY: Department of Veterans Affairs.

ACTION: Final rule.

SUMMARY: This document affirms, without any changes, the provisions of the interim final rule that was published to reflect changes made by the Veterans Education and Benefits Expansion Act of 2001 (Pub. L. 107-103) and the Veterans Benefits Act of 2002 (Pub. L. 107-330).

This final rule establishes provisions pursuant to the Veterans Education and Benefits Expansion Act of 2001 to allow the Department of Veterans Affairs (VA) to furnish an appropriate Government marker for the grave of an eligible veteran buried in a private cemetery, regardless of whether the grave is already marked with a privately purchased marker. Pursuant to the Veterans Benefits Act of 2002, the provisions of this final rule will apply to requests to mark graves or memorialize eligible veterans whose deaths occurred on or after September 11, 2001.

DATES: Effective Date: This final rule is effective September 25, 2003.

Applicability Date: The provisions of 38 CFR 1.631 apply to deaths occurring on or after September 11, 2001.

FOR FURTHER INFORMATION CONTACT: David K. Schettler, Director of Memorial Programs Service (MPS), National Cemetery Administration, Department of Veterans Affairs, 810 Vermont Avenue, NW., Washington, DC 20420. Telephone: (202) 501-3100 (this is not a toll-free number).

SUPPLEMENTARY INFORMATION: On September 25, 2003, VA published an interim final rule in the Federal Register (68 FR 55317). The interim final rule amended VA's burial benefits provisions to allow VA to furnish an appropriate marker for the graves of eligible veterans buried in private cemeteries, regardless of whether the grave is already marked with a privately purchased marker.

We provided a 60-day comment period that ended November 24, 2003. We did not receive any comments. Based on the rationale set forth in the interim final rule and in this document, we adopt the provisions of the interim final rule as a final rule without any changes.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This rule would have no such effect on State, local, or tribal governments, or the private sector.

Paperwork Reduction Act

This document does not contain new provisions constituting a collection of information under the Paperwork Reduction Act (44 U.S.C. 3501-3521). The Office of Management and Budget has approved the existing information collection under control number 2900-0222.

Regulatory Flexibility Act

The Secretary hereby certifies that this final rule will not have a significant economic impact on a substantial number of small entities as they are defined in the Regulatory Flexibility Act, 5 U.S.C. 601-612. Only individual VA beneficiaries could be directly affected. Therefore, pursuant to 5 U.S.C. 605(b), this final rule is exempt from the initial and final regulatory flexibility analyses requirements of sections 603 and 604.

Catalog of Federal Domestic Assistance Numbers

The Catalog of Federal Domestic Assistance program number for this document is 64.202.

List of Subjects in 38 CFR Part 1

Administrative practice and procedure, Cemeteries, Veterans.

Approved: February 25, 2004.
Anthony J. Principi,
Secretary of Veterans Affairs.

PART 1—[AMENDED]

Accordingly, the interim final rule amending 38 CFR part 1 that was published in the Federal Register at 68 FR 55317 on September 25, 2003, is adopted as a final rule without change.

[FR Doc. 04-5410 Filed 3-10-04; 8:45 am]

BILLING CODE 8320-01-P